NUCLEAR REGULATORY COMMISSION

[Docket No. 50-219]

AmerGen Energy Company, LLC (Oyster Creek Nuclear Generating Station); Order Approving Application Regarding Transfer of Interest in Amergen Energy Company, LLC

I

AmerGen Energy Company, LLC (AmerGen, the licensee) is the holder of Facility Operating License No. DPR-16, which authorizes possession, use, and operation of Oyster Creek Nuclear Generating Station (the facility). The facility is located at the licensee's site in Ocean County, New Jersey. AmerGen is owned by PECO Energy Company (PECO) and British Energy, Inc., each holding a 50 percent interest. British Energy, Inc. is wholly owned by British Energy, plc.

II

Under cover of a letter dated February 28, 2000, AmerGen submitted an application requesting approval of the transfer of control of the facility operating license that would occur upon a new generating company, Exelon Generation Company, LLC (EGC), acquiring the interest in AmerGen now held by PECO. EGC is to be formed as an indirect subsidiary of a new holding company, Exelon Corporation (Exelon), which was created in connection with the October 20, 2000, merger of Unicom Corporation (Unicom), the parent of Commonwealth Edison Company, and PECO. EGC will be a subsidiary of Exelon Ventures Company, which in turn will be a subsidiary of Exelon. Supplemental information was provided by submittals dated May 12, May 24, June 1 and June 28, 2000. Hereinafter, the February 28, 2000, application and supplemental information will be referred to collectively as the “application.” At the time of the February 28, 2000, application, GPU Nuclear, Inc. (GPUN) was the licensed operator for Oyster Creek Nuclear Generating Station and Jersey Central Power and Light Company was the owner of the facility. On August 8, 2000, the license and ownership of Oyster Creek was transferred to AmerGen.

Approval of the transfer of control of the facility operating license was requested by AmerGen pursuant to 10 CFR 50.80. Notice of the request and an opportunity for a hearing was published in the Federal Register on July 27, 2000 (65 FR 46182). The Commission received no comments or requests for hearing pursuant to such notice.

Under 10 CFR 50.80, no license, or any right thereunder, shall be transferred, directly or indirectly, through transfer of control of the license, unless the Commission shall give its consent in writing. Upon review of the information in the application by AmerGen, and other information before the Commission, and relying upon the representation and agreements contained in the application, the NRC staff has determined that the transfer of PECO's interest in AmerGen to EGC will not affect the qualifications of AmerGen to be the holder of the license, that AmerGen will remain qualified to hold the license, and that the transfer of control of the license, to the extent effected by the above transaction, is otherwise consistent with applicable provisions of law, regulations, and orders issued by the Commission, subject to the conditions set forth below.

The foregoing findings are supported by a safety evaluation dated December 21, 2000.

III

Accordingly, pursuant to Sections 161b, 161i and 184 of the Atomic Energy Act of 1954, as amended, 42 U.S.C. §§ 2201(b), 2201(i) and 2234; and 10 CFR 50.80, it is hereby ordered that the transfer of control of the license as described herein is approved, subject to the following condition:

Should the transfer of control of the license not be completed by December 31, 2001, this Order shall become null and void, provided, however, upon written application and for good cause shown, such date may in writing be extended.

This Order is effective upon issuance.

For further details with respect to this Order, see the initial application dated February 28, 2000, and supplemental submittals dated May 12, May 24, June 1 and June 28, 2000, and the safety evaluation dated December 21, 2000, which are available for public inspection at the Commission's Public Document Room, located at One White Flint North, 11555 Rockville Pike (first floor), Rockville, Maryland, and accessible electronically through the ADAMS Public Electronic Reading Room link at the NRC Web site ­(http://www.nrc.gov).

Dated at Rockville, Maryland this 21st day of December 2000.
For the Nuclear Regulatory Commission.
Samuel J. Collins,
Director, Office of Nuclear Reactor Regulation.

[FR Doc. 00-33348 Filed 12-28-00; 8:45 am]

BILLING CODE 7590-01-P